DEPARTMENT OF THE TREASURY

United States Mint

Notification of Pricing for the United States Mint 2009 Presidential $1 Coin Uncirculated Set ™

ACTION: Notice.

SUMMARY: The United States Mint is announcing the price of the 2009 Presidential $1 Coin Uncirculated Set. The 2009 Presidential $1 Coin Uncirculated Set will be priced at $15.95. This set contains eight Presidential $1 Coins: four from the United States Mint at Philadelphia, and four from the United States Mint at Denver. The 2009 Presidential $1 Coin Uncirculated Set will be offered for sale in the spring of 2009.

FOR FURTHER INFORMATION CONTACT: B. B. Craig, Associate Director for Sales and Marketing; United States Mint; 801 9th Street, NW.; Washington, DC 20220; or call 202-354-7500.

Authority: 31 U.S.C. 5111, 5112 & 9701.

Dated: March 30, 2009.
Andrew Brunhart,
Deputy Director, United States Mint.

[FR Doc. E9-7514 Filed 4-2-09; 8:45 am]

BILLING CODE 4810-02-P